DEPARTMENT OF COMMERCE

National Oceanic and Atmospheric Administration

[RTID 0648-XE066]

Takes of Marine Mammals Incidental to Specified Activities; Taking Marine Mammals Incidental to Furie Operating Alaska, LLC Oil and Gas Activities in Cook Inlet, Alaska; Correction

AGENCY: National Marine Fisheries Service (NMFS), National Oceanic and Atmospheric Administration (NOAA), Commerce.

ACTION: Notice; proposed incidental harassment authorizations; request for comments on proposed authorizations and possible renewals; correction.

SUMMARY: On June 14, 2024, a notice was published in the Federal Register announcing the proposed issuance of two incidental harassment authorizations (IHAs) for take of marine mammals incidental to oil and gas activities in Cook Inlet, Alaska. That document inadvertently contained errors in tables 7 and 10. This document only corrects those errors; all other information is unchanged.

DATES: June 28, 2024.

FOR FURTHER INFORMATION CONTACT: Leah Davis, Office of Protected Resources, NMFS, (301) 427-8401.

SUPPLEMENTARY INFORMATION:

Background

NMFS published a notice in the Federal Register on June 14, 2024 (89 FR 51102) announcing the proposed issuance of two IHAs for take of marine mammals incidental to oil and gas activities in Cook Inlet, Alaska. NMFS refers the reader to the June 14, 2024, Federal Register notice (89 FR 51102) for background information concerning the IHAs.

Corrections

On page 51118, table 7 is corrected to read as follows:

Table 7—SSLs for Project Activities
Sound source | SSL: SEL | SSL: SPLRMS
3 tugs at 50 percent power |  | 185 dB at 1 m.
4 tugs at 50 percent power |  | 186.2 dB at 1 m.
Conductor pipe pile (20 in, impact) | 184 dB at 10 m | 193 dB at 10 m.

On page 51120, table 10 is corrected to read as follows:

Table 10—Level A Harassment and Level B Harassment Isopleths From Tugging and Impact Pile Driving
Sound source | Level A Harassment Isopleths (m): LF | Level A Harassment Isopleths (m): MF | Level A Harassment Isopleths (m): HF | Level A Harassment Isopleths (m): PW | Level A Harassment Isopleths (m): OW | Level B Harassment Isopleths (m)
Conductor pipe pile, 70 percent installation | 3,064 | 109 | 3,650 | 1,640 | 119 | 1,585
Conductor pipe pile, 30 percent installation | 1,742 | 62 | 2,075 | 932 | 68 |
Tugging/Positioning, 3 Tugs ¹ | 95 | 78 | 679 | 69 | 0 | 3,850
Tugging/Positioning, 4 Tugs ² | 108 | 89 | 773 | 79 | 1 | 4,483
¹ These zones are results from Hilcorp's modeling.
² For otariids, Hilcorp's model estimated a Level A harassment zone of 0 during tugging/positioning with three tugs. Therefore, for four tugs, NMFS applied the Level A harassment zone calculating with the User Spreadsheet.

Dated: June 25, 2024.
Kimberly Damon-Randall,
Director, Office of Protected Resources National Marine Fisheries Service.

[FR Doc. 2024-14302 Filed 6-25-24; 4:15 pm]

BILLING CODE 3510-22-P